DEPARTMENT OF ENERGY

Federal Energy Regulatory Commission

Combined Notice of Filings #1

Take notice that the Commission received the following electric corporate filings:

Docket Numbers: EC13-33-000.

Applicants: Mesquite Power, LLC.

Description: Section 203 Application for Authorization of Transfer of Jurisdictional Assets of Mesquite Power, LLC.

Filed Date: 11/6/12.

Accession Number: 20121106-5169.

Comments Due: 5 p.m. ET 11/27/12.

Take notice that the Commission received the following electric rate filings:

Docket Numbers: ER10-2431-002; ER10-2434-002; ER10-2467-002; ER11-3731-002; ER10-2436-002.

Applicants: Wapsipinicon Wind Project, LLC, Hoosier Wind Project, LLC, Chanarambie Power Partners, LLC, Fenton Power Partners I, LLC, LWP Lessee, LLC.

Description: Supplement to Triennial Market Power Analysis Update of enXco Central Region Companies.

Filed Date: 08/17/2012.

Accession Number: 20120817-5172.

Comments Due: 5 p.m. ET 11/19/12.

Docket Numbers: ER10-2985-003; ER10-3049-004; ER10-3051-004.

Applicants: Champion Energy Marketing LLC, Champion Energy Services, LLC, Champion Energy, LLC.

Description: Supplement to Updated Market Power Analysis for the Central Region of Champion Energy Marketing LLC, et al.

Filed Date: 8/22/12.

Accession Number: 20120822-5118.

Comments Due: 5 p.m. ET 11/19/12.

Docket Numbers: ER11-4633-001.

Applicants: Madison Gas and Electric Company.

Description: Madison Gas and Electric Company submits an Updated Market Power Analysis.

Filed Date: 11/2/12.

Accession Number: 20121106-0203.

Comments Due: 5 p.m. ET 11/23/12.

Docket Numbers: ER12-2695-002.

Applicants: Public Service Company of Colorado.

Description: Public Service Company of Colorado submits tariff filing per 35.17(b): 2012_11_06 PSCo MBR Filing to be effective 1/6/2013.

Filed Date: 11/6/12.

Accession Number: 20121106-5134.

Comments Due: 5 p.m. ET 11/27/12.

Docket Numbers: ER13-41-000.

Applicants: Dynasty Power Inc.

Description: Dynasty Power Inc. submits Supplement to Notice of Change in Status.

Filed Date: 11/6/12.

Accession Number: 20121106-5137.

Comments Due: 5 p.m. ET 11/27/12.

Docket Numbers: ER13-322-000.

Applicants: PJM Interconnection, L.L.C.

Description: Queue Position W4-025; Original Service Agreement No. 3429 to be effective 10/17/2012.

Filed Date: 11/6/12.

Accession Number: 20121106-5080.

Comments Due: 5 p.m. ET 11/27/12.

Docket Numbers: ER13-323-000.

Applicants: New England Power Pool Participants Committee, ISO New England Inc.

Description: New England Power Pool Participants Committee submits tariff filing per 35.13(a)(2)(ii: MR1 Revisions Rel. to Auditing of Gener. Resources to be effective 12/31/9998.

Filed Date: 11/6/12.

Accession Number: 20121106-5091.

Comments Due: 5 p.m. ET 11/27/12.

Docket Numbers: ER13-324-000.

Applicants: Entergy Arkansas, Inc.

Description: Entergy Arkansas, Inc. submits tariff filing per 35: EAI Compliance Filing in ER10-1676 to be effective 4/29/2011.

Filed Date: 11/6/12.

Accession Number: 20121106-5094.

Comments Due: 5 p.m. ET 11/27/12.

Docket Numbers: ER13-325-000.

Applicants: Entergy Gulf States Louisiana, L.L.C.

Description: Entergy Gulf States Louisiana, L.L.C. submits tariff filing per 35: EGSL Compliance Filing Docket No. ER10-1676 to be effective 4/29/2011.

Filed Date: 11/6/12.

Accession Number: 20121106-5098.

Comments Due: 5 p.m. ET 11/27/12.

Docket Numbers: ER13-326-000.

Applicants: Entergy Louisiana, LLC.

Description: Entergy Louisiana, LLC submits tariff filing per 35: ELL Compliance Filing Docket No. ER10-1676 to be effective 4/29/2011.

Filed Date: 11/6/12.

Accession Number: 20121106-5101.

Comments Due: 5 p.m. ET 11/27/12.

Docket Numbers: ER13-327-000.

Applicants: Porter-Walker LLC.

Description: Porter-Walker LLC submits tariff filing per 35.12: FERC Electric Tariff, Volume No. 1 to be effective 11/6/2012.

Filed Date: 11/6/12.

Accession Number: 20121106-5105.

Comments Due: 5 p.m. ET 11/27/12.

Docket Numbers: ER13-328-000.

Applicants: Entergy Mississippi, Inc.

Description: Entergy Mississippi, Inc. submits tariff filing per 35: EMI Compliance Filing Docket No. ER10-1676 to be effective 4/29/2011.

Filed Date: 11/6/12.

Accession Number: 20121106-5106.

Comments Due: 5 p.m. ET 11/27/12.

Docket Numbers: ER13-329-000.

Applicants: Entergy New Orleans, Inc.

Description: Entergy New Orleans, Inc. submits tariff filing per 35: ENOI Compliance Filing Docket No. ER10-1676 to be effective 4/29/2011.

Filed Date: 11/6/12.

Accession Number: 20121106-5107.

Comments Due: 5 p.m. ET 11/27/12.

Docket Numbers: ER13-330-000.

Applicants: Entergy Texas, Inc.

Description: Entergy Texas, Inc. submits tariff filing per 35: ETI Compliance Filing Docket No. ER10-1676 to be effective 4/29/2011.

Filed Date: 11/6/12.

Accession Number: 20121106-5109.

Comments Due: 5 p.m. ET 11/27/12.

Docket Numbers: ER13-331-000.

Applicants: Nevada Power Company.

Description: Nevada Power Company submits tariff filing per 35: Rate Schedule No. 30 Amended & Restated Transmission Facilities Agmt-PacifiCorp to be effective 6/20/2011.

Filed Date: 11/6/12.

Accession Number: 20121106-5118.

Comments Due: 5 p.m. ET 11/27/12.

Docket Numbers: ER13-332-000.

Applicants: DeSoto County Generating Company, LLC.

Description: DeSoto County Generating Company, LLC submits tariff filing per 35.13(a)(2)(iii: Rate Schedule FERC No. 1 to be effective 1/1/2013.

Filed Date: 11/6/12.

Accession Number: 20121106-5133.

Comments Due: 5 p.m. ET 11/27/12.

Docket Numbers: ER13-333-000.

Applicants: PacifiCorp.

Description: PacifiCorp submits tariff filing per 35: Nevada Power Transmission Facilities Agreement Compliance Filing to be effective 6/20/2011.

Filed Date: 11/7/12.

Accession Number: 20121107-5000.

Comments Due: 5 p.m. ET 11/28/12.

Docket Numbers: ER13-334-000.

Applicants: ISO New England Inc., New England Power Pool Participants Committee.

Description: ISO New England Inc. and New England Power Pool Participants Committee submit Installed Capacity Requirement, Hydro Quebec Interconnection Capability Credits and Related Values for the 2016/2017 Capability Year.

Filed Date: 11/6/12.

Accession Number: 20121106-5165.

Comments Due: 5 p.m. ET 11/27/12.

Docket Numbers: ER13-335-000.

Applicants: ISO New England Inc.

Description: ISO New England Inc. submits 7th Forward Capacity Auction Informational Filing.

Filed Date: 11/6/12.

Accession Number: 20121106-5167.

Comments Due: 5 p.m. ET 11/21/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2012.
Nathaniel J. Davis, Sr.,
Deputy Secretary.

[FR Doc. 2012-27892 Filed 11-15-12; 8:45 am]

BILLING CODE 6717-01-P